DEPARTMENT OF AGRICULTURE

Animal and Plant Health Inspection Service

[Docket No. APHIS-2008-0073]

Sirex Woodwasp; Availability of an Environmental Assessment and Finding of No Significant Impact

AGENCY: Animal and Plant Health Inspection Service, USDA.

ACTION: Notice.

SUMMARY: We are advising the public that a final environmental assessment and finding of no significant impact have been prepared by the Animal and Plant Health Inspection Service relative to a proposed biological control program for Sirex woodwasp. The environmental assessment documents our review and analysis of environmental impacts associated with the proposed biological control program. Based on its finding of no significant impact, the Animal and Plant Health Inspection Service has determined that an environmental impact statement need not be prepared.

FOR FURTHER INFORMATION CONTACT: Ms. Lynn Evans-Goldner, Staff Officer, Emergency and Domestic Programs, PPQ, APHIS, 4700 River Road Unit 137, Riverdale, MD 20737-1231; (301) 734-7228.

SUPPLEMENTARY INFORMATION:

Background

The Sirex woodwasp (Sirex noctilio Fabricius [Hymenoptera: Siricidae]) is a member of the horntail wasp family native to Europe, Asia, and northern Africa, where it is generally considered to be a secondary pest. In its native range, it attacks pines, such as Austrian (Pinus nigra), maritime (P. pinaster), and Scotch (P. sylvestris) pines, almost exclusively. While stressed trees are most at risk, Sirex woodwasp can also attack and kill healthy trees. Adult wasps are strong fliers and can naturally disperse up to 25 miles, especially when aided by strong winds. In addition, the artificial spread of Sirex woodwasp can occur through the movement of infested host plant materials such as pine logs. Because Sirex woodwasp inhabits the sapwood and larvae tunnel deep into host trees, this pest is difficult to detect through visual inspection.

Sirex woodwasp can complete its lifecycle on many pine species, which are the pest's primary hosts. Thus far, in North America, jack pine (P. banksiana), red pine (P. resinosa), Scotch pine (P. sylvestris), and white pine (P. strobus) have served as hosts for Sirex woodwasp. The first detection of a breeding population of the Sirex woodwasp in the United States occurred in 2004 in Oswego County, NY. As a result of ongoing surveys conducted by State and Federal officials since 2005, the Sirex woodwasp has been detected in additional counties in Michigan, New York, Pennsylvania, and Vermont.

In an environmental assessment prepared in March 2007, APHIS considered a program to control Sirex woodwasp in New York and Pennsylvania, the only States where Sirex woodwasp had been detected at that time. The environmental assessment evaluated four alternatives: No action, a quarantine program, a biological control program, and a combination of quarantine and biological control (preferred action) in New York and Pennsylvania. APHIS issued a finding of no significant impact on June 21, 2007, which determined that the proposed program (including quarantine and biological control) identified as the preferred action would not have a significant impact on the quality of the human environment in those States.

Since that time, Sirex woodwasp has been detected in additional States, and APHIS would like to implement a biological control program in those States. If the pest is detected in other States in the future, APHIS would also want to implement a biological control program in those States, as well. APHIS therefore revised the environmental assessment in order to consider the potential effects on the quality of the human environment from implementing a program for control of Sirex woodwasp in all of the currently infested States and in the surrounding States where Sirex woodwasp would most likely be detected if it were to spread.

On July 21, 2008, we published in the Federal Register (73 FR 42313-42314, Docket No. APHIS-2008-0073) a notice ¹¹ in which we announced the availability for public review and comment of the revised environmental assessment, entitled “Proposed Program for the Control of the Woodwasp Sirex noctilio F. (Hymenoptera: Siricidae) in the Northeastern United States” (May 2008). APHIS received 18 comments on the revised environmental assessment. Of these, 17 were outside the scope of the environmental assessment; instead, they pertained to movement restrictions and economic impacts that may occur if APHIS were to impose Sirex-related movement conditions.

¹¹ To view the notice, the environmental assessment, the finding of no significant impact, and the comments we received, go to http://www.regulations.gov/fdmspublic/component/main?main=DocketDetail&d=APHIS-2008-

The one comment that was relevant to the environmental assessment questioned the efficacy of the proposed environmental release of the parasitic nematode Beddingia siricidicola and is addressed in the August 2008 finding of no significant impact.

In this document, we are advising the public of our decision and finding of no significant impact regarding a proposed program for the control of Sirex woodwasp. This decision is based upon the updated environmental assessment, entitled “Proposed Program for the Control of the Woodwasp Sirex noctilio F. (Hymenoptera: Siricidae) in the Northeastern United States” (August 2008).

The final environmental assessment and finding of no significant impact may be viewed on the Regulations.gov Web site or in our reading room (see ADDRESSES above for a link to Regulations.gov and information on the location and hours of the reading room). You may request paper copies of the environmental assessment and finding of no significant impact by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 14th day of October 2008.
Kevin Shea,
Acting Administrator, Animal and Plant Health Inspection Service.

[FR Doc. E8-24889 Filed 10-17-08; 8:45 am]

BILLING CODE 3410-34-P